DEPARTMENT OF AGRICULTURE

Federal Crop Insurance Corporation

Request for Applications (RFA): Research and Development Risk Management Research Partnerships; Correction

Announcement Type: Notice of availability of funds and request for application for risk management research partnerships; Correction.

CFDA Number: 10.456.

Dates: The closing date and time for receipt of an application is 5:00 p.m. C.D.T. on July 5, 2005. Applications received after the deadline will not be evaluated by the technical review panel and will not be considered for funding. All awards will be made and agreements completed no later than September 30, 2005.

Summary: Due to technical errors, the following notice supersedes the original Request for Applications, published on May 6, 2005, for Research and Development Risk Management Research Partnerships at 70 FR 23969-23975.

Overview: The purpose of the Risk Management Research Partnerships is to fund the development of non-insurance risk management tools that will be utilized by agricultural producers to assist them in mitigating the risks inherent in agricultural production. The proposals must address at least one of the ten objectives listed in part I.D. In addition, all proposals must clearly demonstrate the usefulness and benefits of the tool to producers of priority commodities and provide a plan for ongoing maintenance and support as described in part III.C.2. Approximately $4 million is available to fund an undetermined number of partnerships. Projects may be funded for a period of up to three years. Applications are accepted from public and private entities; individuals are not eligible to apply. No cost sharing by the applicant is required. There are no limitations on the number of applications each applicant may submit.

I. Funding Opportunity Description

A. Background

The Risk Management Agency (RMA), on behalf of the Federal Crop Insurance Corporation (FCIC), is committed to meeting the risk management needs and improving or developing risk management tools for the nation's farmers and ranchers. It does this by offering Federal crop insurance and other risk management products and tools through a network of private-sector entities and by overseeing the creation of new products, seeking enhancements in existing products, and by expanding the use of a variety of risk management tools. Risk management tools include a variety of risk management options and strategies developed to assist producers in mitigating the risks inherent in agricultural production. Risk management tools may include: Financial management tools to mitigate price and production risks; tools to enhance measurement and prediction of risks in order to facilitate risk diversification; tools to improve production management, harvesting, record keeping or marketing. For the purposes of this announcement, risk management tools do not include insurance products, plans of insurance, policies, modifications thereof or any related material.

B. Purpose

The purpose of this program is to fund partnership agreements that assist producers, minimize their production risks, and/or develop risk management tools. The agreements are for the development of risk management tools for use directly by agricultural producers. To aid in meeting these goals each partnership agreement awarded through this program will provide the recipient with funds, guidance, and the substantial involvement of RMA to carry out these risk management initiatives. Applications requesting funding for the development of insurance products, plans of insurance, policies, modifications thereof or related materials are excluded from consideration under this announcement.

C. Authorization

In accordance with section 522(d) of the Federal Crop Insurance Act (Act), FCIC announces the availability of funding for risk management research activities. Priority will be given to those activities addressing the need for risk management tools for producers of the following agricultural commodities (For purposes of this announcement, these commodities are collectively referred to as “Priority Commodities.”):

• Agricultural commodities covered by section 196 of the Agricultural Market Transition Act (7 U.S.C. 7333) (Noninsured Assistance Program (NAP)). Commodities in this group are commercial crops that are not covered by catastrophic risk protection crop insurance, are used for food or fiber (except livestock), and specifically include, but are not limited to, floricultural, ornamental nursery, Christmas trees, turf grass sod, aquaculture (including ornamental fish), and industrial crops.

• Specialty crops. Commodities in this group may or may not be covered under a Federal crop insurance plan and include, but are not limited to, fruits, vegetables, tree nuts, syrups, honey, roots, herbs, and highly specialized varieties of traditional crops.

• Underserved commodities. This group includes: (a) Commodities, including livestock that are covered by a Federal crop insurance plan but for which participation in an area is below the national average; and (b) commodities, including livestock, with inadequate crop insurance coverage.

D. Objectives

The project objectives listed below highlight the research priorities of RMA. The objectives are listed in priority order, with the most important objective designated as 1, the second most important designated as 2, etc. The order of priority will be considered in making awards. The suggested emphasis discussed within each objective is not meant to be exhaustive. Applicants may propose other topics within any project objective but justification for those topics must be provided.

RMA encourages proposals that address multiple risks and will result in the development of tools that provide an integrated or holistic approach to risk mitigation. Preference will be given to such proposals.

Proposals may address multiple objectives, but each proposal must specify a single primary objective for funding purposes.

In the order of priority, the project objectives are:

1.To develop risk management tools to assist producers in finding alternative products, techniques or strategies related to disease management (e.g., soybean rust) and/or pest mitigation under various farming practices.

2. To develop risk management tools to assist producers in reducing the impact of multiple-year losses, such as the multiple-year losses due to sustained or recurring drought and to increase the economic and production stability of agricultural producers.

3. To develop risk management tools to assist forage and rangeland producers in improving techniques for one or more of the following: Managing production, e.g., optimization of grazing patterns; establishing and maintaining forage production records; drought mitigation; and harvesting or marketing production.

4. To develop risk management tools to assist limited resource and/or traditionally underserved farmers and ranchers and/or producers with limited English language proficiency that traditionally produce agricultural commodities covered by NAP, specialty crops and underserved agricultural commodities. The tools developed under this objective should address risks that may be specific to the targeted producers and/or will assist the targeted producers in gaining meaningful access to existing risk management tools and information. (Definitions: A limited resource farmer is a producer or operator of a farm with an annual gross income of $20,000 or less derived from all sources of revenue or a producer on a farm of less than 25 acres (aggregated for all crops) where a majority of the producer's gross income from farming operations does not exceed $20,000; and/or direct or indirect gross farm sales not more than $100,000 in each of the previous two years adjusted for inflation using Prices Paid by Farmer Index as compiled by the National Agricultural Statistical Service (NASS) and a total household income at or below the national poverty level for a family of four, or less than 50 percent of county median household income in each of the previous two years (to be determined annually using Commerce Department Data). Underserved farmers and ranchers include: Women, African Americans, Asians and Pacific Islanders, American Indians, Alaskan Natives, and Hispanics.)

5. To develop risk management tools to assist livestock producers in improving techniques for one or more of the following: planning and managing the production of livestock, including disease management and control; improving techniques for breeding of livestock; and managing price, revenue, or production and market risks.

6. To develop risk management tools to assist agricultural producers in developing a better understanding of the interaction of financial markets, marketing, crop insurance, and production costs and assist producers in the determination of the optimal combination of risk management strategies.

7. To clarify labor requirements and assist producers in complying with requirements to better meet the physically intense and time-compressed planting, tending, and harvesting requirements associated with the production of specialty crops and underserved agricultural commodities.

8. To develop risk management tools encouraging self-protection for production agricultural enterprises vulnerable to losses due to terrorism.

9. To provide risk management tools to State foresters or equivalent officials for the prescribed use of burning on private forest land for the prevention, control and suppression of fire.

10. To develop risk management tools to further increase the economic and production stability of wild salmon fishermen.

II. Award Information

A. Award Description

Approximately $4 million is available for partnership agreements that will fund the development of risk management tools. Awards under this program will be made on a competitive basis. Projects may be funded for a period of up to three years for the activities described in this announcement. Projects can also be in two parts with the first part including the research and feasibility studies and the second part including the development, implementation, delivery and maintenance of the risk management tool. If the development of the tool is determined not to be feasible, the partnership may be terminated by RMA after completion of the first part with funding reduced accordingly.

There is no commitment by RMA to fund any particular project or to make a specific number of awards. Applicants awarded a partnership agreement for an amount that is less than the amount requested will be required to modify their application to conform to the reduced amount before execution of the partnership agreement. No maximum or minimum funding levels have been established for individual projects. All awards will be made and agreements completed no later than September 30, 2005.

Recipients of awards must demonstrate non-financial benefits from a partnership agreement and must agree to substantial involvement of RMA in the project. RMA encourages collaborative efforts and geographic diversity of proposed projects.

In conducting activities to achieve the purpose of this proposed research, the recipient will be responsible for the activities listed under Section II. A. 1 of this part. RMA will be responsible for the activities listed under Section II. A. 2 of this part.

1. Recipient Activities

The applicant will be required to perform the following activities:

a. Finalize, in cooperation with RMA, the partnership agreement.

b. Finalize, in cooperation with RMA, the plan to administer, maintain and update the risk management tool in the future. The applicant must develop a plan for the delivery of the risk management tool to producers and the ongoing maintenance and support of the risk management tool, including how the applicant will fund the delivery, support, maintenance and updating of the tool to maintain its applicability, benefits, usefulness, and value to producers. The applicant must also deliver the risk management tool to producers and support, maintain and update the tool as applicable.

c. Define non-financial benefits and the substantial involvement of the RMA.

d. Coordinate, manage, document and implement the timely completion of the approved research and development activities.

e. Abide by the plans and provisions contained in the partnership agreement.

f. Report on program performance in accordance with the partnership agreement.

g. The recipient may be required to make a presentation to the FCIC Board of Directors.

h. Adhere to RMA guidelines for systems development and information technology development.

2. RMA Activities

RMA will be substantially involved during the performance of the funded activity. Potential types of substantial involvement may include, but are not limited to the following activities:

a. Collaborate on the research plan;

b. Assist in the selection of subcontractors and project staff;

c. Review and approve critical stages of project development before subsequent stages may be started;

d. Provide assistance in the management or technical performance of the project;

e. Collaborate with the recipient in the development of materials associated with the funded project, as it relates to publication or presentation of the results and the distribution of the risk management tools to the public, any producer groups, RMA, and the FCIC Board of Directors;

f. Assist in the collection of data and information that may be available in RMA databases;

g. Collaborate with the recipient in the development of a proposal to administer, maintain and update the risk management tool in the future; and

h. Similar type of activities.

B. Other Activities

In addition to the specific activities listed above, the applicant may suggest other activities that would contribute directly to the purpose of this program. For any additional activity suggested, the applicant should identify the objective of the activity, the specific tasks required to meet the objective, specific timelines for performing the tasks, and specific responsibilities of the partners. For any additional activity suggested, the applicant should identify specific ways in which RMA could or should have substantial involvement in that activity.

III. Eligibility Information

A. Eligible Applicants

Proposals are invited from qualified public and private entities. Eligible applicants include colleges and universities, Federal, State, and local agencies, Native American tribal organizations, non-profit and for-profit private organizations or corporations, and other entities. Individuals are not eligible applicants.

Although an applicant may be eligible to compete for an award based on its status as an eligible entity, other factors may exclude an applicant from receiving Federal assistance under this program (e.g., debarment and suspension; a determination of non-performance on a prior contract, cooperative agreement, grant or partnership; a determination of a violation of applicable ethical standards).

B. Cost Sharing or Matching

Cost sharing, matching, in-kind contributions, or cost participation is not required.

C. Other

1. Applicants must demonstrate the usefulness of the proposed risk management tool and the benefits of the tool to producers of priority commodities. Applicants must include information supporting the need for the tool, such as a market analysis, or communications from producers or producer organizations expressing a need for the proposed tool. The proposal must also clearly define how the proposed tool will meet the needs of the producer groups identified. The second objective is that the proposed risk management tool meet specific identified needs of the producer and the proposed risk management tool be supported by the applicant without the need of resources from RMA. Refer to part V.B for the review and selection process.

2. If the project proposed for development requires ongoing maintenance, support and delivery to producers beyond the development stage, the applicant must submit a plan to continue the maintenance, support and delivery of the tool without relying on RMA's resources. If the applicant does not plan to directly support, maintain and deliver the tool using non-award funds after the development period funded by this award is completed, then the proposal should identify a third party sponsor who will do so. For example, if a proposed tool would require constant updating of data and availability on a website in order to be utilized by producers, then a sponsor should be identified that would be able to provide the funds necessary to maintain and host the tool. Third party sponsors may include government agencies, grower organizations, industry organizations, private sector entities, etc. If the tool proposed does not require support, maintenance, updating or revisions to maintain applicability or value or does not require continued delivery to producers, the proposal should so state and provide the basis why such actions are not required. Refer to part V.B for the review and selection process.

3. Applicants must be able to demonstrate they will receive non-financial benefits as a result of the partnership agreement. Non-financial benefits must accrue to the applicant and must include more than the ability to provide employment income to the applicant or for the applicant's employees or the community. The applicant must demonstrate that performance under the partnership agreement will further the specific mission of the applicant (such as providing research or activities necessary for graduate or other students to complete educational programs). Refer to part V.A.2 for evaluation criteria.

IV. Application and Submission Information

A. Address To Request Application Package

Applicants may download an application package from the Risk Management Agency Web site at: http://www.rma.usda.gov. Applicants may also request an application package from: RMA/RED Partnership Agreement Program, USDA, RMA/RED, 6501 Beacon Drive, Stop 0813, Kansas City, Missouri 64133-4676, phone: (816) 926-6343, fax: (816) 926-7343, e-mail: RMARED.Application@rma.usda.gov.

Completed and signed application packages must be sent to: RMA/RED Partnership Agreement Program, USDA, RMA/RED, 6501 Beacon Drive, Stop 0813, Kansas City, Missouri 64133-4676. Applicants are encouraged to submit completed and signed application packages using overnight mail or delivery service to ensure timely receipt by the USDA. Applicants using the U.S. Postal Service should allow for extra security-processing time for mail delivered to government offices.

B. Content and Form of Application Submission

A complete and valid application package must include an original, twelve complete paper copies are requested, three copies are required, and one copy (Microsoft Word format preferred) of the application package on diskette or compact disc, and:

1. A completed and signed OMB Standard Form 424, “Application for Federal Assistance.”

2. A completed and signed OMB Standard Form 424-A, “Budget Information—Non-construction Programs.” Reviewers will need sufficient information to effectively evaluate the budget. Indirect cost for projects submitted in response to this solicitation are limited to 10 percent of the total direct cost of the agreement. A sample budget narrative, including suggestions for format and content, is available on the RMA Web site (http://www.rma.usda.gov) or upon request.

3. A completed and signed OMB Standard Form 424-B, “Assurances, Non-construction Programs.”

4. A completed and signed OMB Standard Form LLL, “Disclosure of Lobbying Activities.”

5. A completed and signed AD-1047, “Certification Regarding Debarment, Suspension and Other Responsibility Matters (Primary Covered Transactions.”)

6. A completed and signed AD-1049, “Certification Regarding Drug-Free Workplace.”

7. A statement of the non-financial benefits of any partnership agreement to the recipient. (Refer to part II.B “Non-financial Benefits.”)

8. A completed Form R&D-1, “Title Page and Proposal Summary.” Each proposal must specify the single primary objective for evaluation and funding purposes. The same or similar proposals cannot be submitted multiple times with different primary objectives specified. If the same or similar proposals are submitted, the first received will be the only one evaluated.

9. A proposal narrative submitted with the application package should be limited to 10 single-sided pages. Reviewers will need sufficient information to effectively evaluate the application under the criteria contained in part V. A sample narrative, including suggestions for format and content, is available on the RMA website (http://www.rma.usda.gov) or upon request.

10. An appendix containing any attachments that may support information in the narrative (Optional).

11. A completed Form R&D-2, “Statement of Work.”

Applicants are responsible for ensuring the application materials are received by the closing date. Incomplete application packages will not receive further consideration.

C. Submission Dates and Times

The closing date and time for receipt of an application is 5 p.m. CDT on July 5, 2005. Applications received after the deadline will not be evaluated by the technical review panel and will not be considered for funding.

D. Funding Restrictions

No maximum or minimum funding levels have been established for individual projects or for categories of objectives. The funding level by category of objective will be determined by FCIC. Indirect cost for projects submitted in response to this solicitation are limited to 10 percent of total direct cost of the agreement. Each project may be funded for a period of up to three years for the activities described in this announcement.

Partnership agreement funds may not be used to:

1. Plan, repair, rehabilitate, acquire, or construct a building or facility including a processing facility;

2. To purchase, rent, or install fixed equipment;

3. Repair or maintain privately owned vehicles;

4. Pay for the preparation of the partnership application;

5. Fund political activities;

6. Pay costs incurred prior to receiving this partnership agreement;

7. Fund any activities prohibited in 7 CFR Parts 3015 and 3019, as applicable.

E. Other Submission Requirements

1. An original and twelve (12) paper copies are requested, three copies are required, of the complete and signed application, and one copy (Microsoft Word format preferred) on diskette or compact disc must be submitted in one package at the time of initial submission.

2. All applications must be submitted and received by the deadline. Applications that do not meet all of the requirements in this announcement are considered incomplete applications. Late or incomplete applications will not be considered in this competition and will be returned to the applicant.

3. Applications will be considered as meeting the announced deadline if they are received in the mailroom at the address stated above service on or before the deadline. Applicants are cautioned that express, overnight mail or other delivery services do not always deliver as agreed. Applicants are responsible for mailing applications well in advance, to ensure that applications are received on or before the deadline time and date. Applicants should be aware that there may be significant delays in delivery if applications are mailed using the U.S. Postal Service due to the additional security measures that mail delivered to government offices now require. Applicants should take this into account because failure of such delivery services will not extend the deadline.

4. Although the application package may be downloaded electronically, RMA cannot accommodate transmissions of application submissions by facsimile or through other electronic media. Therefore, applications transmitted electronically will not be accepted regardless of the date or time of submission or the time of receipt.

V. Application Review Information

A. Criteria

1. Research Objectives—Maximum 40 points

The application must receive a minimum score of 28 points under this criterion in order to be considered for further evaluation and funding. Applications receiving less than 28 points will be eliminated and will not be evaluated under criteria 2 through 4.

The proposal must clearly define the development, management and implementation of a risk management tool designed to meet the needs of the producers outlined for at least one of the objectives listed in part I.D. Proposals that best meet the objective and are innovative, clear, concise, useful, easy to understand, and address multiple risks that result in the development of tools that provide an integrated or holistic approach to risk mitigation will be given the highest score. The proposal will be reviewed to determine if it is similar to a project that has been funded, has been recommended for funding, or is currently under development through other means.

2. Indication of RMA Involvement and Non-Financial Benefits—Maximum 10 Points

The proposal clearly indicates areas of substantial involvement by RMA and clearly indicates benefits derived from the partnership that extend beyond the financial benefits or funding of the research proposal. Those proposals that clearly outline the involvement of RMA in all aspects of the project and demonstrate non-financial benefit will receive the highest score. Examples of non-financial benefits would be the benefits derived by an educational institution by providing research opportunities to students or benefits derived through the furtherance of an organization's mission.

3. Research Approach, Methodology, Development and Implementation—Maximum 40 Points

The proposal clearly demonstrates a sound research approach and defines the methodology to be used as well as describes the development and implementation of the risk management tool. Proposals that demonstrate a clear, concise and generally accepted research methodology and innovative approach will receive the highest number of points.

4. Management—Maximum 10 Points

The proposal clearly demonstrates the applicant's ability and resources to coordinate and manage all aspects of the proposed research project. The applicant whose approach is the most cost effective and optimizes the use and effective application of the funding will receive the highest score.

B. Review and Selection Process

Each application will be evaluated using a five-part process. First, each application will be screened by RMA to ensure that each proposal specifies a single primary objective for evaluation and funding purposes and the proposal meets the objectives stated in part I.D. The same or similar proposals cannot be submitted multiple times with different primary objectives specified. If the same or similar proposals are submitted, the first received will be the only one evaluated. Applications that do not meet the objectives stated in part I.D and all other requirements in this announcement or are incomplete will not receive further consideration.

Second, the proposal must clearly demonstrate the usefulness of the tool and the benefits of the tool to producers of priority commodities and demonstrate that there is a reasonable expectation that the tool will actually be used by a substantial number of such producers. Any proposal that does not do this will not receive further consideration.

Third, the plan will be evaluated to ensure that the risk management tool can be delivered to producers and will be supported, maintained, updated or revised as necessary. Any proposal where the plan does not adequately address each of these issues will not receive further consideration. If the plan states that such actions are not necessary, the basis for such a determination will be evaluated and the proposal reviewed to determine if such determination is reasonable. If it is determined that any such actions are required and they are not contained in the plan, the proposal will not receive further consideration.

Fourth, all eligible applications will be evaluated using the criterion in part V.A.1. Applications must score at least 28 points under this criteria in order to be to be evaluated further.

Fifth, all applications scoring the required 28 points will be evaluated further under part V.A.2 through 4.

For the second and third steps, a review panel will consider all applications that are complete and meet the objectives in part I.D. and all other requirements in this announcement. If the panel determines that an application is eligible to be reviewed under steps four and five, the review panel will review the merits of the applications. The evaluation of each application will be conducted by a panel of not less than three independent reviewers. The panel will be comprised of representatives from USDA, other federal agencies, and others representing public and private organizations, as needed. The narrative and any appendixes provided by each applicant will be used by the review panel to evaluate the merits of the project that is being proposed for funding. The panel will examine and score applications based on the evaluation criteria and weights contained in part V.A.

In order to be considered for funding, a proposal must score at least 75 points.

For the last step, those applications meeting the minimum number of points will be listed in initial rank order by objective. The highest-ranking proposal for each objective will be funded in the order of priority (the highest ranking proposal meeting objective 1 will be funded first and the highest ranking proposal meeting objective 2 will be funded second, etc.). It is possible that funds could be exhausted before funding projects for every objective. If there are funds remaining, the process will be repeated until the funds are obligated. The projects selected for funding will be presented, along with funding level recommendations, to the Manager of FCIC, who will make the final decision on awarding of a partnership agreement.

If the Manager of FCIC determines that any application is sufficiently similar to a project that has been funded or has been recommended to be funded under this announcement or any other research and development program, then the Manager may elect to not fund that application in whole or in part.

VI. Award Administration Information

A. Award Notices

Receipt of applications will be acknowledged by e-mail, whenever possible. Therefore, each applicant is encouraged to provide an e-mail address in the application. If an e-mail address is not indicated on an application, receipt will be acknowledged by letter. There will be no notification of incomplete, unqualified or unfunded applications until the awards have been made.

When received by RMA, applications will be assigned an identification number. This number will be communicated to applicants in the acknowledgement of receipt of applications. An application identification number should be referenced in all correspondence regarding the application. If the applicant does not receive an acknowledgement within 15 days of the submission deadline, the applicant should contact the Research and Development Division at (816) 926-6343.

B. Administrative and National Policy Requirements

1. Access to Panel Review Information

Upon written request, scores from the evaluation panel, not including the identity of reviewers, will be sent to the applicant after the review and awards process has been completed.

2. Notification of Partnership Agreement Awards and Notification of Non-Selection

Following approval of the applications selected for funding, notice of project approval and authority to draw down funds will be made to the selected applicants in writing. Within the limit of funds available for such purpose, the awarding official of RMA shall enter into partnership agreements with those applicants whose applications are judged to be most meritorious under the procedures set forth in this announcement. The partnership agreement provides the amount of Federal funds for use in the project period, the terms and conditions of the award, and the time period for the project.

The effective date of the partnership agreement shall be the date the agreement is executed by both parties. All funds provided to the applicant by FCIC must be expended solely for the purpose for which funds are obligated in accordance with the approved application and budget, the regulations, the terms and conditions of the award, and the applicability of Federal cost principles. No commitment of Federal assistance beyond the project period is made or implied, as a result of any award made pursuant to this announcement.

Notification of denial of funding will be sent to applicants after final funding decisions have been made. Reasons for denial of funding can include incomplete proposals, proposals that did not meet the objectives, scored low or were duplicative.

3. Confidential Aspects of Proposals and Awards

When an application results in a partnership agreement, it becomes a part of the official record of RMA transactions, available to the public upon specific request. Information that the Secretary of Agriculture determines to be of a confidential, privileged, or proprietary nature will be held in confidence to the extent permitted by law. Therefore, any information that the applicant wishes to be considered confidential, privileged, or proprietary should be clearly marked within the application, including the basis for such designation. The original copy of a proposal that does not result in an award will be retained by RMA for a period of one year. Other copies will be destroyed. Such a proposal will be released only with the express written consent of the applicant or to the extent required by law. A proposal may be withdrawn at any time prior to award.

4. Administration

All partnership agreements are subject to 7 CFR part 3015.

5. Prohibitions and Requirements With Regard to Lobbying

All partnership agreements are subject to 7 CFR part 3018. A copy of the certification and disclosure forms must be submitted with the application.

6. Applicable OMB Circulars

All partnership agreements funded as a result of this notice will be subject to the requirements contained in all applicable OMB circulars.

C. Reporting

Applicants awarded a partnership agreement will be required to submit quarterly progress and financial reports (SF-269) throughout the project period, as well as a final program and financial report not later than 90 days after the end of the project period.

VII. Agency Contact

If applicants have any questions they may contact: USDA, RMA/RED, 6501 Beacon Drive, Stop 0813, Kansas City, Missouri 64133-4676, or phone: (816) 926-6343,or fax: (816) 926-7343,or e-mail: RMARED.Application@rma.usda.gov.

VIII. Other Information

The names of applicants, the names of individuals identified in the applications, the content of applications, and the panel evaluations of applications will all be kept confidential, except to those involved in the review process, to the extent permitted by law. In addition, the identities of review panel members will remain confidential throughout the entire review process and will not be released to applicants. At the end of the fiscal year, names of panel members will be made available. However, panelists will not be identified with the review of any particular application.

Signed in Washington, DC, on May 18, 2005.
Ross J. Davidson, Jr.,
Manager, Federal Crop Insurance Corporation.

[FR Doc. 05-10252 Filed 5-23-05; 8:45 am]

BILLING CODE 3410-08-P